DEPARTMENT OF AGRICULTURE

Forest Service

Idaho Panhandle National Forests and Lolo National Forest; Shoshone County, ID and Mineral County, MT; Lookout Pass Ski Area Expansion Third-Party Environmental Impact Statement

AGENCY: Forest Service, USDA.

ACTION: Notice of intent to prepare an environmental impact statement.

SUMMARY: The Idaho Panhandle National Forests (IPNFs) and Lolo National Forest (LNF) are preparing an environmental impact statement (EIS) to consider and disclose the anticipated environmental effects of a proposal from Lookout Pass Ski and Recreation Area (Lookout Pass) to expand its special use permit to upgrade and develop new lifts, ski terrain, parking, access roads, and guest service facilities. The proposed project is located approximately 12 miles east of Wallace, Idaho, on National Forest System (NFS) lands within Shoshone County, Idaho, and Mineral County, Montana.

DATES: Comments concerning the scope of the analysis must be received by May 5, 2014. The Draft EIS is expected to be available for public review in winter 2015 and the Final EIS is expected in summer 2016.

ADDRESSES: Send written comments to SWCA Environmental Consultants, 1220 SW Morrison St., Suite 700, Portland, OR 97205. Comments may also be sent via email to comments-northern-idpanhandle-coeur-dalene@fs.fed.us, via facsimile to (503) 224-1851, online through the project Web site at http://www.fs.fed.us/nepa/fs-usda-pop.php?project=43757, or in-person at the Coeur d'Alene River Ranger District, Fernan or Smelterville offices, or the Superior Ranger District. Include “Lookout Pass Ski Area Expansion Third-Party EIS” in the subject line. Comments submitted electronically must be searchable or readable with optical character recognition software.

FOR FURTHER INFORMATION CONTACT: Additional information related to the proposed project can be obtained from the project Web site, http://www.fs.fed.us/nepa/fs-usda-pop.php?project=43757, by contacting the Lookout Pass Ski Area Expansion Third-Party EIS NEPA Contractor, Sue Wilmot, at (503) 224-0333 ext. 6324, or by emailing: swilmot@swca.com. Further information will also be made available at three public open houses:

• April 22, 2014, 5-7 p.m. at the Black Diamond Ranch (120 Borgia Haugan Frontage Rd., De Borgia, MT).

• April 23, 2014, 5-7 p.m. at the Wallace Inn (100 Front Street, Wallace, Idaho).

• April 24, 2014, 5-7 p.m. at the Coeur d'Alene Forest Supervisors Office (3815 Schreiber Way, Coeur d'Alene, Idaho).

Individuals who use telecommunication devices for the deaf (TDD) may call the Federal Information Relay Service (FIRS) at 1-800-877-8339 between 8 a.m. and 8 p.m., Eastern Time, Monday through Friday.

SUPPLEMENTARY INFORMATION:

Purpose and Need for Action: The purpose of the proposed Lookout Ski Area Expansion is to provide a high-quality downhill skiing recreational opportunity on the IPNFs and LNF. Lookout Pass ski terrain is insufficient to meet market demands, resulting in diminished recreational experiences and reduced economic viability for the ski area. In the Lookout Pass Ski and Recreation Area Master Development Plan, Lookout Pass specifically identified three social, economic, or physical factors that necessitate the development of additional terrain in order to ensure continued, publicly acceptable ski operations. These factors are (1) diminished skier experiences associated with overcrowding, increased skier congestion, decreased safe operating conditions, and inefficient skier transport during high-visitation days as well as inefficient skier transport and trail use on low-visitation days; (2) current ski terrain distribution that does not match market demand; and (3) concerns over the economic viability of Lookout Pass and its ongoing contribution to the local economy. Expansion of Lookout Pass would address these needs by providing more skiable terrain and more efficient lift systems to enable the ski area to remain economically viable while ensuring a high-quality recreation experience for a wider range and number of skiers. This action would move the ski area toward a desired condition outlined in the Idaho Panhandle National Forests Land Management Plan and the Lolo National Forest Plan and respond to the Forest Plans' goals and objectives.

Proposed Action: The IPNFs and LNF propose to expand the existing Lookout Pass boundary through a new special use permit to encompass an additional 650 acres of Forest Service lands. Administration of these lands is split between the IPNFs in Shoshone County, Idaho, and the LNF in Mineral County, Montana. Approximately 55% of the additional acreage would fall within the IPNFs and 45% would fall within the LNF.

Ski Trails and Terrain: The Proposed Action would construct 15 new ski trails, providing a total of 85 new acres of traditional ski terrain. New connector ski trails would add about 24 acres of novice terrain and provide access to proposed and existing lifts and terrain. The remaining 61 acres would provide new low intermediate to advanced intermediate terrain and reduce crowding and skier conflicts on high-visitation days.

Construction of traditional terrain ski trails would require the removal of all trees within the ski trail corridor. Some partial removal would also occur along ski trail edges and in leave islands. Timber harvest during ski trail construction would be conducted using ground-based yarding systems and slash, including limbs and large woody debris, would be either removed or burned.

In addition to traditional ski terrain, creation of about 9 acres of gladed terrain is proposed. Beetle-killed and infested trees would be removed, and wood waste would be chipped and used for erosion control, cut for firewood, or piled and burned on site.

Lifts: Lift 1 would be upgraded from a two-passenger lift to a four-passenger lift to increase skier capacity. A new drive terminal, a return terminal, and 14 line towers would be installed to support this upgrade. Existing access roads would be used for construction and maintenance of upgraded Lift 1; no new road construction would be required.

Two new lifts—Lifts 5 and 6—would be constructed in the proposed expansion area to provide skier access to new traditional and gladed terrain. Lift construction would occur within tree-cleared corridors. Lift 5 would be approximately 5,200 feet long with a vertical rise of approximately 1,300 feet. It would serve six trails and provide access to the Lift 6 ski trails. Lift 5 would be installed as a fixed-grip lift for two, three, or four passengers. Lift 6 would serve six trails and would provide access back to the Lift 5 trails. The lift would be approximately 2,800 feet long with a vertical rise of approximately 800 feet, and would be installed as a fixed-grip, two-passenger lift.

Lift terminals and towers would be transported to each site using logging equipment (forwarders, tractors, or skidders).

Powerline: Proposed Lifts 5 and 6 would be powered via an underground power cable extending from the bottom of existing Lift 1 to the bottom drive terminals of proposed Lifts 5 and 6. The approximately 12,000 feet of buried cable would be installed within new and existing ski trails and along proposed temporary roads.

The powerline would cross one unnamed spring-fed creek near the base of Lift 6. The cable would be either directionally drilled under the creek or installed using an open-cut method. The creek would be restored to pre-construction or better condition, and erosion and sediment control measures would be installed to reduce streambank and upland erosion and sediment transport into the waterbody.

Parking: The Proposed Action would add 6.6 acres of parking to accommodate an additional 130 vehicles and buses. Approximately 50 parking spaces and a turn-around area would be added north of the existing overflow parking area. Ingress and egress for users of the Northern Pacific Railroad Trail would be maintained. An additional 80 parking spaces would be created in two locations south of the existing paved parking area; one on the west side of the access road and another on the west side of the existing railroad grade. Ingress and egress for other users would be maintained.

No snowmobile off-loading or trailer parking would be designated or permitted within the special use area boundary.

Maintenance Facilities: A new maintenance shop and adjacent concrete fuel tank pad would be constructed just south of the existing fueling pad station to support ski operations. A 0.03-mile new, permanent gravel road would be constructed to provide access between the maintenance facilities and the lodge.

Guest Service Facilities (ski patrol service building and restroom): A ski patrol service building and warming hut would be constructed at the top of proposed Lifts 5 and 6. The log structure would be similar to the existing ski patrol service building and would be powered by propane or fuel cell technology to provide heat and light.

The Proposed Action would also include construction of a two-stall Romtec restroom structure in the vicinity of the proposed Lift 5 bottom terminal, just off existing NFS Road 18591 along a proposed new permanent road.

Roads and Access: Approximately 4.3 miles of existing and new roads would be constructed or reconstructed to Forest Service standards by the permittee to facilitate timber harvest and Lookout Pass maintenance and operations. These roads would be closed to public travel during project implementation and after completion.

Entry to the project area during the timber harvest and construction phases would occur via existing NFS Roads 9132, 4208, 18591, and 3026A, requiring approximately 0.5 mile of reconstruction on Road 18591.

Approximately 2.2 miles of new, permanent roads would also be constructed to provide long-term, annual use by Lookout Pass for maintenance and operations. Planned new permanent roads would be constructed to Forest Service standards. Motorized vehicle access would be permitted for Forest Service administrative use and by Lookout Pass for maintenance and operations, but all other motorized access would be prohibited.

Approximately 1.6 miles of temporary roads would be constructed, primarily on existing ski trails, jeep tracks, or other primitive trails and unmanaged Forest Service roads to minimize vegetation and soil disturbance. Temporary roads would be constructed for logging of a single entry only and would be decommissioned following this activity.

Low-impact temporary roads would also be needed to access the lift tower locations. These would be made with a small trackhoe traversing cross-country and removed at the conclusion of construction activities.

Upon construction of the proposed new permanent road, Forest Service Undetermined Roads 37315 and 37315-1 would be decommissioned. These roads provide duplicate access to areas that would be accessed by the proposed new permanent road and represent a higher risk to area resources because they are not managed by the Forest Service or constructed to current Forest Service-specified road standards.

Forest Plan Amendment: The Proposed Action would include an amendment to the Lolo National Forest Plan. This amendment would change approximately 173 acres from Management Area (MA) 9 (concentrated public use), 13 acres from MA 13 (riparian areas), and 107 acres from MA 24 (timber production with high visual sensitivity) to MA 8 (ski areas).

For the IPNFs, the Proposed Action would change approximately 85 acres from MA 1 (timber production) and 89 acres from MA 9 (non-forest lands) to MA 17 (developed recreation) under the current Idaho Panhandle National Forests Land Management Plan (referred to as the Forest Plan). However, if any of the action alternatives are selected as part of the record of decision for the IPNF's ongoing Forest Plan revision, all lands potentially affected by the Proposed Action would fall within MA 7 (primary recreation areas) and would not require a Forest Plan amendment.

Responsible Official: Mary Farnsworth, Forest Supervisor, Idaho Panhandle National Forests, 3815 Schreiber Way, Coeur d'Alene, Idaho 83815.

Nature of Decision To Be Made: Based on the analysis that will be documented in the forthcoming EIS, the responsible official will decide whether or not to amend the current special use permit to implement, in whole or in part, the Proposed Action or another alternative that may be developed by the Forest Service as a result of scoping.

Scoping Process: This notice of intent initiates the scoping process, which guides the development of the EIS. The Forest Service is soliciting comments from federal, state, and local agencies and other individuals or organizations that may be interested in or affected by implementation of the proposed project. Public questions and comments regarding this proposal are an integral part of this environmental analysis process. Input provided by interested and/or affected individuals, organizations, and governmental agencies will be used to identify resource issues that will be analyzed in the Draft EIS. The Forest Service will use the significant issues raised during the scoping process to formulate alternatives, prescribe mitigation measures and project design features, and analyze environmental effects.

It is important that reviewers provide their comments at such times and in such manner that they are useful to the agency's preparation of the EIS. Therefore, comments should be provided prior to the close of the comment period and should clearly articulate the reviewer's specific facts, concerns, or issues, and the supporting reasons.

Comments received in response to this solicitation, including names and addresses of those who comment, will be part of the public record for this Proposed Action. Comments submitted anonymously will be accepted and considered; however, anonymous comments will not allow the Forest Service to provide the respondent with subsequent environmental documents.

Dated: March 28, 2014.
Lisa A. Timchak,
Acting Forest Supervisor.

[FR Doc. 2014-07524 Filed 4-3-14; 8:45 am]

BILLING CODE 3410-11-P